DEPARTMENT OF COMMERCE

National Institute of Standards and Technology

Proposed Voluntary Product Standard 1-09, Structural Plywood

AGENCY: National Institute of Standards and Technology (NIST), Commerce.

ACTION: Notice and request for comments.

SUMMARY: The National Institute of Standards and Technology (NIST) is soliciting public comment on a proposed revision to Voluntary Product Standard (PS) 1-09, Structural Plywood. The standard, prepared by the Committee for PS 1, establishes requirements (for those who choose to adhere to the standard) for the principal types and grades of structural plywood and provides a basis for common understanding among producers, distributors, and users of the product. This standard covers the wood species, veneer grading, adhesive bonds, panel construction and workmanship, dimensions and tolerances, marking, moisture content and packaging of structural plywood intended for construction and industrial uses.

DATES: Written comments regarding the proposed revision to PS 1-09 should be submitted to the Standards Services Division, NIST, no later than October 7, 2019.

ADDRESSES: An electronic copy of the proposed revision to the standard, PS 1-09, can be obtained at the following website: https://www.nist.gov/standardsgov/voluntary-product-standards-program. This site also includes a summary of the significant changes. Written comments on the proposed revision should be submitted to David F. Alderman, Standards Coordination Office, NIST, 100 Bureau Drive, Stop 2100, Gaithersburg, MD 20899-2100. Electronic comments may be submitted via email to david.alderman@nist.gov.

FOR FURTHER INFORMATION CONTACT: David F. Alderman, Standards Coordination Office, National Institute of Standards and Technology, telephone (301) 975-4019; fax: (301) 975-4715, email: david.alderman@nist.gov.

SUPPLEMENTARY INFORMATION: The proposed revision of the standard has been developed and is being processed in accordance with Department of Commerce provisions in 15 CFR part 10, Procedures for the Development of Voluntary Product Standards, as amended (published June 20, 1986). The Committee for PS 1 is responsible for maintaining, revising, and interpreting the standard, and is comprised of producers, distributors, users, and others with an interest in the standard. Committee members voted on the revision and approved. The Committee then submitted a report to NIST along with the voting results and the draft revised standard. NIST has determined that the revised standard should be issued for public comment.

Voluntary Product Standard PS 1-09 establishes requirements for the principal types and grades of structural plywood and provides a basis for common understanding among producers, distributors, and users of the product. The standard covers the wood species, veneer grading, adhesive bonds, panel construction and workmanship, dimensions and tolerances, marking, moisture content, and packaging of structural plywood intended for construction and industrial uses. After conducting a review of the current standard, PS 1-09, the Committee for PS 1 determined that updates were needed to reflect current industry practices and developed the proposed revision to the standard. The proposed revision includes the following changes: editorial corrections, new and revised definitions, and updated references. A complete list of proposed changes can be found at https://www.nist.gov/standardsgov/voluntary-product-standards-program.

Written comments should be submitted in accordance with the DATES and ADDRESSES sections of this notice. Attachments will be accepted in plain text, Microsoft Word, or Adobe PDF formats. Comments containing references, studies, research, and other empirical data that are not widely published should include copies or electronic links of the referenced materials. All submissions, including attachments and other supporting materials, will become part of the public record and subject to public disclosure. NIST reserves the right to publish comments publicly, unedited and in their entirety. Sensitive personal information, such as account numbers or Social Security numbers, or names of other individuals, should not be included. Submissions will not be edited to remove any identifying or contact information. Do not submit confidential business information, or otherwise sensitive or protected information. Comments that contain profanity, vulgarity, threats, or other inappropriate language or content will not be considered. The Committee for PS 1 and NIST will consider all other relevant comments received and may revise the standard accordingly.

Authority: 15 U.S.C. 272.

Kevin A. Kimball,
Chief of Staff.

[FR Doc. 2019-19302 Filed 9-5-19; 8:45 am]

BILLING CODE 3510-13-P